FEDERAL COMMUNICATIONS COMMISSION

47 CFR Part 73

[DA 00-2613; MM Docket No. 99-229; RM-9479]

Radio Broadcasting Services; Dayton, Incline Village and Reno, Nevada

AGENCY: Federal Communications Commission.

ACTION: Final rule.

SUMMARY: The Commission, at the jointly filed request of Salt Broadcasting, LLC and Americom Las Vegas Limited Partnership substitutes Channel 261C1 for Channel 261C2 and reallots Channel 261C1 from Incline Village, Nevada to Dayton, Nevada, as the community's first local commercial FM service and reallots Channel 295C from Reno to Incline Village in order for the community to retain a first local aural service. See 64 FR 34755, June 29, 1999. Channel 261C1 can be allotted to Dayton in compliance with the Commission's minimum distance separation requirements with a site restriction of 36.8 km (22.9 miles) northeast, at coordinates 39-29-27 NL; 119-19-03 WL. Channel 295C can be allotted to Incline Village with a site restriction of 10.1 km (6.3 miles) northeast, at the Station KRNO-FM's presently licensed transmitter site at coordinates 39-18-38 NL; 119-53-01 WL.

DATES: Effective January 2, 2001.

FOR FURTHER INFORMATION CONTACT: Arthur D. Scrutchins, Mass Media Bureau, (202) 418-2180.

SUPPLEMENTARY INFORMATION: This is a synopsis of the Commission's Report and Order, MM Docket No. 99-229, adopted November 8, 2000, and released November 17, 2000. The full text of this Commission decision is available for inspection and copying during normal business hours in the FCC Reference Center (Room 239), 445 12th Street, SW, Washington, DC. The complete text of this decision may also be purchased from the Commission's copy contractor, International Transcription Services, Inc., (202) 857-3800, 1231 20th Street, NW, Washington, DC 20036.

List of Subjects in 47 CFR Part 73

Radio broadcasting.

Part 73 of Title 47 of the Code of Federal Regulations is amended as follows:

PART 73—RADIO BROADCAST SERVICES

1. The authority citation for part 73 continues to read as follows:

Authority: 47 U.S.C. 154, 303, 334 and 336.

§ 73.202 [Amended]

2. Section 73.202(b), the Table of FM Allotments under Nevada, is amended by adding Channel 261C1 at Dayton, by removing Channel 261C2 at Incline Village and adding Channel 295C at Incline Village, and by removing Channel 295C at Reno.

Federal Communications Commission.
John A. Karousos,
Chief, Allocations Branch, Policy and Rules Division, Mass Media Bureau.

[FR Doc. 00-30369 Filed 11-28-00; 8:45 am]

BILLING CODE 6712-01-P